DEPARTMENT OF HEALTH AND HUMAN SERVICES

Centers for Disease Control and Prevention

Disease, Disability, and Injury Prevention and Control Special Emphasis Panel (SEP): Centers for Agricultural Disease and Injury Research, Education and Prevention, Program Announcement Number, PAR06-057

In accordance with Section 10(a)(2) of the Federal Advisory Committee Act (Pub. L. 92-463), the Centers for Disease Control and Prevention (CDC) announces the aforementioned meeting:

Time and Date:

7 p.m.-5 p.m., February 25, 2009 (Closed).

7 p.m.-5 p.m., February 26, 2009 (Closed).

7 p.m.-5 p.m., February 27, 2009 (Closed).

Place: Courtyard Greenville, 2225 Stantonsburg Road, Greenville, North Carolina 27834, telephone: (252) 329-2900.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to “Centers for Agricultural Disease and Injury Research, Education and Prevention, PAR06-057.”

Contact Person for More Information: Stephen Olenchock, PhD, Scientific Review Administrator, 1095 Willowdale Road, Morgantown, West Virginia 26505, telephone: (304) 285-6271.

The Director, Management Analysis and Services Office, has been delegated the authority to sign Federal Register notices pertaining to announcements of meetings and other committee management activities, for both CDC and the Agency for Toxic Substances and Disease Registry.

Dated: January 8, 2009.
Elaine L. Baker,
Director, Management Analysis and Services Office, Centers for Disease Control and Prevention.

[FR Doc. E9-873 Filed 1-15-09; 8:45 am]

BILLING CODE 4163-18-P